DEPARTMENT OF HEALTH AND HUMAN SERVICES

Meeting of the Advisory Committee on Minority Health

AGENCY: Office of Minority Health, Office of the Secretary, Department of Health and Human Services.

ACTION: Notice of meeting.

SUMMARY: As stipulated by the Federal Advisory Committee Act, the U.S. Department of Health and Human Services (HHS or Department) is hereby giving notice that the Advisory Committee on Minority Health (ACMH) will hold a meeting. This meeting will be open to the public. Preregistration by January 24, 2020, is required for the public to attend the meeting, provide comments, and/or distribute printed material(s) to ACMH members. Information about the meeting is available from the designated contact person and will be posted on the website for the Office of Minority Health (OMH), www.minorityhealth.hhs.gov. Information about ACMH activities can be found on the OMH website under the heading About OMH.

DATES: The meeting will be held on Thursday, January 30, 2020, 9:00 a.m. to 5:00 p.m. ET, and Friday, January 31, 2020, 9:00 a.m. to 3:00 p.m. ET. Day 2 may end earlier than 3:00 p.m. ET if ACMH completes it work before 3:00 p.m. ET.

ADDRESSES: The meeting will be accessible by attendance in-person or by webcast on the internet. In-person and webcast participants must register prior to the meeting. The meeting will be held at the 5600 Fishers Lane Building, Room 05E49, 5600 Fishers Lane, Rockville, Maryland 20187. Registered webcast participants will receive the webcast information prior to the meeting.

FOR FURTHER INFORMATION CONTACT: Violet Woo, Designated Federal Officer, Advisory Committee on Minority Health, Office of Minority Health, Department of Health and Human Services, Tower Building, 1101 Wootton Parkway, Plaza Level, Rockville, Maryland 20852. Phone: 240-453-2882; fax: 240-453-2883; email OMH-ACMH@hhs.gov.

SUPPLEMENTARY INFORMATION: In accordance with Public Law 105-392, the ACMH was established to provide advice to the Deputy Assistant Secretary for Minority Health on improving the health of each racial and ethnic minority group and on the development of goals and specific program activities of the OMH.

The topics to be discussed during this meeting will include strategies to improve access to and success of clinical prevention services among racial and ethnic minority populations. The recommendations will be given to the Deputy Assistant Secretary for Minority Health to inform efforts related to the Department's community-wide, chronic disease prevention strategies.

The meeting is open to the public. Any individual who wishes to attend the meeting in person or by webcast must register by sending an email to OMH-ACMH@hhs.gov by January 24, 2020. Each registrant should provide their name, affiliation, phone number, email address, days attending, and if participation is in-person or via webcast. After registration, individuals participating by webcast will receive webcast access information via email. Individuals who plan to attend and need special assistance, such as sign language interpretation or other reasonable accommodations, should contact BLH Technologies, Inc. at (240) 399-8735 and reference this meeting. Requests for special accommodations should be made at least ten (10) business days prior to the meeting.

Members of the public will have an opportunity to provide comments at the meeting. Public comments will be limited to two minutes per speaker during the time allotted. Individuals who would like to submit written statements should email OMH-ACMH@hhs.gov or mail their comments to the Designated Federal Officer contact cited above so it is received by the Designated Federal Officer at least five (5) business days prior to the meeting.

Any members of the public who wish to distribute electronic or printed material(s) related to this meeting's topic to ACMH members should email OMH-ACMH@hhs.gov or mail their material to the Designated Federal Officer contact cited above. The material should be received by the Designated Federal Officer at least five (5) business days prior to the meeting.

Dated: December 30, 2019.
Violet Woo,
Designated Federal Officer, Advisory Committee on Minority Health.

[FR Doc. 2020-00307 Filed 1-10-20; 8:45 am]

BILLING CODE 4150-29-P